INTERNATIONAL TRADE COMMISSION

[Investigation No. 337-TA-827]

In the Matter of Certain Portable Communication Devices Commission Determination Not To Review an Initial Determination Amending the Complaint

AGENCY: U.S. International Trade Commission.

ACTION: Notice.

SUMMARY: Notice is hereby given that the U.S. International Trade Commission has determined not to review an initial determination (“ID”) (Order No. 9) granting a joint motion to amend the complaint and notice of investigation in the above-captioned investigation.

FOR FURTHER INFORMATION CONTACT: Jia Chen, Office of the General Counsel, U.S. International Trade Commission, 500 E Street SW., Washington, DC 20436, telephone (202) 205-4737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on January 19, 2012, based on a complaint filed on behalf of Digitude Innovations LLC of Alexandria, Virginia (“Digitude”) on December 2, 2011 and amended on December 16, 2011. 77 FR 2758 (Jan. 19, 2012). The complaint alleges violations of Section 337 of the Tariff Act of 1930, as amended, 19 U.S.C. 1337, in the sale for importation, importation, or sale after importation of certain portable communication devices by reason of infringement of one or more of claims 7-13 and 15 of U.S. Patent No. 5,926,636; claims 1-9 and 17-25 of U.S. Patent No. 5,929,655; claims 1-8 and 14-20 of U.S. Patent No. 6,208,879; and claims 1-5 of U.S. Patent No. 6,456,841. The Commission's notice of investigation named as respondents Research In Motion Ltd. of Ontario, Canada; Research In Motion Corp. of Irving, Texas; HTC Corporation of Taoyuan, Taiwan; HTC America, Inc. of Bellevue, Washington; LG Electronics, Inc. of Seoul, South Korea; LG Electronics U.S.A., Inc. of Englewood Cliffs, New Jersey; LG Electronics MobileComm U.S.A, Inc. of San Diego, California; Motorola Mobility Holdings, Inc. of Libertyville, Illinois; Samsung Electronics Co., Ltd of Seoul, South Korea; Samsung Electronics America, Inc. of Ridgefield Park, New Jersey; Samsung Telecommunications America, LLC of Richardson, Texas; Sony Corporation of Tokyo, Japan; Sony Corporation of America of New York, New York; Sony Electronics, Inc. of San Diego, California; Sony Ericsson Mobile Communications AB of Lund, Sweden; Sony Ericsson Mobile Communications (USA) Inc. of Research Triangle Park, North Carolina; Amazon.com, Inc. of Seattle, Washington; Nokia Corporation of Espoo, Finland; Nokia Inc. of Irving, Texas; Pantech & Curitel Communication, Inc. of Seoul, South Korea; and Pantech Wireless, Inc. of Atlanta, Georgia.

On January 26, 2012, Digitude and respondent Motorola Mobility Holdings, Inc. filed a joint motion to amend the complaint and notice of investigation to substitute Motorola Mobility, Inc. for Motorola Mobility Holdings, Inc. On February 22, 2012, the Commission investigative attorney filed a response in support of the motion. On February 27, 2012, the presiding administrative law judge issued the subject ID, granting the motion. No petitions for review were filed.

The Commission has determined not to review the subject ID.

This action is taken under the authority of section 337 of the Tariff Act of 1930, as amended (19 U.S.C. 1337), and Part 210 of the Commission's Rules of Practice and Procedure (19 CFR part 210).

By order of the Commission.
Issued: March 19, 2012.
James R. Holbein,
Secretary to the Commission.

[FR Doc. 2012-6998 Filed 3-22-12; 8:45 am]

BILLING CODE 7020-02-P